DEPARTMENT OF THE INTERIOR

Bureau of Land Management

[AK-932-1430-ET; F-025943]

Notice of Proposed Withdrawal Extension and Opportunity for Public Meeting; Alaska

AGENCY: Bureau of Land Management, Interior.

ACTION: Notice of Proposed Withdrawal.

SUMMARY: On behalf of the U.S. Department of Commerce, National Oceanic and Atmospheric Administration, the Bureau of Land Management proposes to extend the duration of Public Land Order (PLO) No. 3708, as modified by PLO No. 6709, for an additional 20-year period. This order withdrew approximately 8,500 acres of public land from settlement, sale, location, or entry under the general land laws, including the United States mining laws, to protect the Gilmore Satellite Tracking Station. This notice also gives an opportunity to comment on the proposed action.

DATES: Comments must be received by May 2, 2007.

ADDRESSES: Comments should be sent to the Alaska State Director, BLM Alaska State Office, 222 West 7th Avenue, No. 13, Anchorage, Alaska 99513-7504.

FOR FURTHER INFORMATION CONTACT: Susan J. Lavin, BLM Alaska State Office, 907-271-3826.

SUPPLEMENTARY INFORMATION: The withdrawal created by PLO No. 3708 (30 FR 8753, July 10, 1965), as modified by PLO No. 6709 (54 FR 6919, February 15, 1989), will expire on February 14, 2009, unless extended. The U.S. Department of Commerce, National Oceanic and Atmospheric Administration has filed an application to extend the withdrawal for an additional 20-year period to protect the facilities at the Gilmore Satellite Tracking Station.

This withdrawal comprises approximately 8,500 acres of public land described in PLO No. 6709 (54 FR 6919, February 15, 1989) and located in:

Fairbanks Meridian

T. 2 N., R. 1 E.,

Secs. 13, 14, 17, 20 to 30, inclusive, 34 and 35.

T. 2 N., R. 2 E.,

Secs. 7, 8, and 17 to 20, inclusive.

A complete description can be provided by the BLM Alaska State Office at the address shown above.

As extended, the withdrawal would not alter the applicability of those public land laws governing the use of land under lease, license, or permit or governing the disposal of the mineral or vegetative resources other than under the mining laws.

The use of a right-of-way or interagency or cooperative agreement would not adequately protect the Federal investment in the Gilmore Satellite Tracking Station.

There are no suitable alternative sites available since the Gilmore Satellite Tracking Station is already constructed on the above-described public land.

No water rights would be needed to fulfill the purpose of the requested withdrawal extension.

For a period of 90 days from the date of publication of this notice, all persons who wish to submit comments, suggestions, or objections in connection with the proposed withdrawal extension may present their views in writing to the BLM State Director at the address indicated above. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in the entirety.

Notice is hereby given that a public meeting will be held since the proposed withdrawal extension affects over 5,000 acres. A notice of the time and place of the public meeting will be published in the Federal Register at least 30 days before the scheduled date of the meeting.

The withdrawal extension proposal will be processed in accordance with the regulations set forth in 43 CFR 2310.4 and subject to Section 204(c) of the Federal Land Policy and Management Act of 1976, 43 U.S.C. 1714 (2000) and Section 810 of the Alaska National Interest Lands Conservation Act, 16 U.S.C. 3120 (2000).

Dated: January 26, 2007.
Carolyn J. Spoon,
Chief, Branch of Lands and Realty.

[FR Doc. E7-1603 Filed 1-31-07; 8:45 am]

BILLING CODE 4310-JA-P